COMMISSION ON CIVIL RIGHTS

Agenda and Notice of Public Meeting of the Border Project Subcommittee of the Arizona State Advisory Committee

Notice is hereby given, pursuant to the provisions of the rules and regulations of the U.S. Commission on Civil Rights, that a meeting of the Border Project Subcommittee of the Arizona State Advisory Committee will convene at 12 p.m. and adjourn at 4 p.m., on March 5, 2004 at the Radisson Hotel, 181 West Broadway, Tucson, Arizona 85701. The purpose of the meeting is to develop and plan, as part of the 4-State joint border project, a border hearing in Nogales, Arizona.

Persons desiring additional information, or planning a Presentation to the Committee, should contact Thomas V. Pilla, Civil Rights Analyst of the Western Regional Office, 213-894-3437 (TDD/213-894-3435). Hearing-impaired persons who will attend the meeting and require the services of a sign language interpreter should contact the Regional Office at least ten (10) working days before the scheduled date of the meeting.

The meeting will be conducted pursuant to the provisions of the rules and regulations of the Commission.

Dated at Washington, DC, February 5, 2004.
Ivy L. Davis,
Chief, Regional Programs Coordination Unit.

[FR Doc. 04-3729 Filed 2-19-04; 8:45 am]

BILLING CODE 6335-01-U